DEPARTMENT OF THE INTERIOR

Fish and Wildlife Service

[FWS-R9-IA-2009-N154; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by September 16, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Jesse D'Elia, U.S. Fish and Wildlife Service, Portland, OR, PRT-217686

The applicant requests a permit to import toe-pad samples of California condor (Gymnogyps californianus) to be obtained from museum specimens worldwide for the purpose of scientific research. This notification covers activities to be conducted by the applicant over a 5-year period.

Applicant: U.S. Fish and Wildlife Service/National Black-Footed Ferret Conservation Center, Carr, CO, PRT-800411 and PRT-086867

The applicant requests an amendment of their permits to export, import, and re-import both live captive-born and wild specimens, biological samples, and salvaged material of black-footed ferret (Mustela nigripes) to and from Canada for completion of identified tasks and objectives mandated under the Black-footed Ferret Recovery Plan. Salvaged materials may include but are not limited to: Whole or partial specimens, blood, tissue, hair, and fecal swabs. This notification covers activities to be conducted by the applicant over a 5-year period.

Applicant: Samuel K. Wasser/University of Washington, Seattle, WA, PRT-179638

The applicant requests a permit to import ivory pieces from elephant (Elephantidae spp.) collected from tusks seized in Osaka, Japan, for the purpose of scientific research.

Applicant: Nick Misciagna, Staten Island, NY, PRT-223180

The applicant requests a permit to import the sport-hunted trophy of one male bontebok (Damaliscus pygargus pygargus) culled from a captive herd maintained under the management program of the Republic of South Africa, for the purpose of enhancement of the survival of the species.

Dated: August 7, 2009.
Lisa J. Lierheimer,
Senior Permit Biologist, Branch of Permits, Division of Management Authority.

[FR Doc. E9-19579 Filed 8-14-09; 8:45 am]

BILLING CODE 4310-55-P